DEPARTMENT OF HEALTH AND HUMAN SERVICES

Administration for Children and Families

Submission for Office of Management and Budget Review; Administration for Native Americans Project Outcome Assessment Survey (Office of Management and Budget #: 0970-0379)

AGENCY: Administration for Native Americans, Administration for Children and Families, U.S. Department of Health and Human Services.

ACTION: Request for public comments.

SUMMARY: The Administration for Children and Families (ACF) is requesting a 3-year extension of the Administration for Native Americans Project Outcome Assessment Survey (OMB #: 0970-0379, expiration 6/30/2025). The survey was revised based on a review by the Administration for Native Americans (ANA) and feedback from grantees, which identified some data elements that could be eliminated and areas that could be clarified.

DATES: Comments due February 12, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The information collected by the Project Outcome Assessment Survey is needed for two main reasons—(1) to collect crucial information required to report on ANA's established Government Performance and Results Act (GPRA) measures and (2) to properly abide by ANA's congressionally mandated statute (42 U.S.C. 2991 et seq.) found within the Native American Programs Act of 1974, as amended, which states that ANA will evaluate projects assisted through ANA grant dollars “including evaluations that describe and measure the impact of such projects, their effectiveness in achieving stated goals, their impact on related programs, and their structure and mechanisms for delivery of services.” The survey information is requested once at the end of a project grant period. The information collected with this survey will fulfill ANA's statutory requirement and will also serve as an important planning and performance tool for ANA.

There are minor revisions proposed to the survey to align with ANA's current requirements of grant recipients and eliminate duplicative data elements.

Respondents: Tribal Governments, Native American nonprofit organizations, and Tribal Colleges and Universities.

Annual Burden Estimates
Instrument | Number of respondents | Number of responses per respondent | Average burden hours per response | Annual burden hours
ANA Project Outcome Assessment Survey | 85 | 1 | 6 | 510

Authority: 42 U.S.C. 2992.

Mary C. Jones,
ACF/OPRE Certifying Officer.

[FR Doc. 2025-00490 Filed 1-10-25; 8:45 am]

BILLING CODE 4184- 34-P